DEPARTMENT OF ENERGY

Federal Energy Regulatory Commission

[Docket No. IC26-13-000]

Commission Information Collection Activities (Ferc-73) Comment Request; Extension

AGENCY: Federal Energy Regulatory Commission, DOE.

ACTION: Notice of information collection and request for comments.

SUMMARY: In compliance with the requirements of the Paperwork Reduction Act of 1995, 44 U.S.C. 3506(c)(2)(A), the Federal Energy Regulatory Commission (Commission or FERC) is soliciting public comment on the currently approved information collection: FERC Form No. 73: Oil Pipeline Service Life Data.

DATES: Comments on the collections of information are due April 20, 2026.

ADDRESSES: Please submit comments via email to DataClearance@FERC.gov. You must specify the Docket No. (IC26-13-000) and the FERC Information Collection number (FERC-73) in your email. If you are unable to file electronically, comments may be filed by USPS mail or by hand (including courier) delivery:

• Mail via U.S. Postal Service only, addressed to: Federal Energy Regulatory Commission, Secretary of the Commission, 888 First Street NE, Washington, DC 20426.

• Hand (including courier) delivery to: Federal Energy Regulatory Commission, 12225 Wilkins Avenue, Rockville, MD 20852.

Docket: To view comments and issuances in this docket, please visit https://elibrary.ferc.gov/eLibrary/search. Once there, you can also sign-up for automatic notification of activity in this docket.

FOR FURTHER INFORMATION CONTACT: Kayla Williams may be reached by email at DataClearance@FERC.gov, or by telephone at (202) 502-6468.

SUPPLEMENTARY INFORMATION:

Title: FERC Form No. 73, Oil Pipeline Service Life Data.

OMB Control No.: 1902-0019.

Type of Request: Three-year extension of the FERC Form No. 73 information collection requirements with no changes to the current reporting requirements.

Abstract: The Commission collects FERC Form No. 73 information as part of its authority under the Interstate Commerce Act, 49 U.S.C. 60501, et al. FERC Form No. 73 contains necessary information for the review of oil pipeline companies' proposed depreciation rates, as regulated entities are required to provide service life data illustrating the remaining physical life of an oil pipeline's properties. This is used to calculate the company's cost of service and its transportation rates to access customers. The Commission implements these filing reviews under 18 CFR 357.3, and 18 CFR part 347.

Section 357.3 and part 347 require an oil pipeline company to submit information under FERC Form No. 73 when: (1) requesting approval for new or changed depreciation rates of an oil pipeline; or (2) being directed by the Commission to file the service life data during an investigation of its book depreciation rates.

Type of Respondent: Oil pipeline companies.

Estimate of Annual Burden: ¹ The Commission estimates the annual public reporting burden for the information collection as below:

¹ The Commission defines burden as the total time, effort, or financial resources expended by persons to generate, maintain, retain, or disclose or provide information to or for a Federal agency. For further explanation of what is included in the information collection burden, reference 5 CFR 1320.3.

FERC Form No. 73, Oil Pipeline Service Life Data
| Number of respondents | Annual number of responses per respondent | Total number of responses | Average burden & cost per response ² | Total annual burden & total annual cost | Cost per respondent ($)
| (1) | (2) | (1) * (2) = (3) | (4) | (3) * (4) = (5) | (5) ÷ (1)
Oil Pipelines Undergoing Investigation or Review | 15 | 1 | 15 | 40 hrs.; $4,080 | 600 hrs.; $61,200 | $4,080

Comments: Comments are invited on: (1) whether the collection of information is necessary for the proper performance of the functions of the Commission, including whether the information will have practical utility; (2) the accuracy of the agency's estimate of the burden and cost of the collection of information, including the validity of the methodology and assumptions used; (3) ways to enhance the quality, utility and clarity of the information collection; and (4) ways to minimize the burden of the collection of information on those who are to respond, including the use of automated collection techniques or other forms of information technology.

² The Commission staff estimates the average cost in salary and benefits for the average respondent based on the Commission's 2026 average cost for salary plus benefits at $102/hour.

Dated: February 10, 2026.
Debbie-Anne A. Reese,
Secretary.

[FR Doc. 2026-03008 Filed 2-13-26; 8:45 am]

BILLING CODE 6717-01-P